DEPARTMENT OF AGRICULTURE

Submission for OMB Review; Comment Request

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by September 29, 2021 will be considered. Written comments and recommendations for the proposed information collection should be submitted within 30 days of the publication of this notice on the following website www.reginfo.gov/public/do/PRAMain. Find this particular information collection by selecting “Currently under 30-day Review—Open for Public Comments” or by using the search function. An agency may not conduct or sponsor a collection of information unless the collection of information displays a currently valid OMB control number and the agency informs potential persons who are to respond to the collection of information that such persons are not required to respond to the collection of information unless it displays a currently valid OMB control number.

Office of the Assistant Secretary for Civil Rights

Title: 7 CFR part 15 subpart D—Data Collection Requirements.

OMB Control Number: 0503-0022.

Summary of Collection: Under 7 CFR 15d.4(5) The Office of Assistant Secretary for Civil Rights (OASCR) shall require agencies to collect the race, ethnicity, and gender (REG) of applicants and program participants, who choose to provide such information on a voluntary basis. Currently, Section 14006 of the 2008 Farm Bill requires the Secretary of Agriculture to annually compile for each county and state in the United States program application and participation rate of socially-disadvantaged farmers or ranchers for each program of USDA that serves agricultural producers or landowners.

Need and Use of the Information: The requested information will help USDA better determine if programs and services are reaching the needs of the public, beneficiaries, recipients, partners, and other stakeholders and supports USDA's planning, outreach, and compliance efforts. The uniform collection of REG data allows USDA to administer programs from a proactive rather than a reactive position and enables the Department to assess the accomplishments of program delivery mandates and objectives. Moreover, when allegations of disparate treatment or service arise, it provides USDA the ability to determine the validity of alleged discrimination complaints and resolve conflicts and issues in an expeditious manner. Failure to collect this information will have a negative impact on USDA's outreach and compliance activities.

Description of Respondents: Producers, applicants, and USDA customers.

Number of Respondents: 1,200.

Frequency of Responses: Reporting: Other (once).

Total Burden Hours: 40.

Dated: August 25, 2021.
Ruth Brown,
Departmental Information Collection Clearance Officer.

[FR Doc. 2021-18583 Filed 8-27-21; 8:45 am]

BILLING CODE 3410-9R-P